FEDERAL FINANCIAL INSTITUTIONS EXAMINATION COUNCIL

12 CFR Part 1102

[Docket No. AS18-10]

Appraisal Subcommittee; Appraiser Regulation

AGENCY: Appraisal Subcommittee of the Federal Financial Institutions Examination Council (ASC).

ACTION: Final rule amendments.

SUMMARY: The ASC is adopting nonsubstantive amendments to its regulations. The amendments correct the street address for the ASC's office, which will be moved October 1, 2018, from 1401 H Street NW, Suite 760, Washington, DC 20005, to 1325 G Street NW, Suite 500, Washington, DC 20005.

DATES: Effective October 1, 2018.

FOR FURTHER INFORMATION CONTACT: Alice M. Ritter, General Counsel, at (202) 595-7577 or alice@asc.gov; Appraisal Subcommittee; 1401 H Street NW, Suite 760, Washington, DC 20005.

SUPPLEMENTARY INFORMATION:

I. Authority and Section-by-Section Analysis

The ASC, since its creation under Title XI of the Financial Institutions Reform, Recovery, and Enforcement Act of 1989, as amended (Title XI), has adopted and amended several regulations that appear at 12 CFR part 1102. These regulations, found in subparts A, B, C, D and E of that part, relate to the ASC's implementation of The Privacy Act of 1974, the Freedom of Information Act, and various sections of Title XI.

On October 1, 2018, the ASC is moving its offices to 1325 G Street NW, Suite 500. Part 1102, as adopted, contains references to the ASC's previous addresses at 2000 K Street and 2100 Pennsylvania Avenue, as well as the present address at 1401 H Street NW. The ASC is amending part 1102 by removing references to the K Street address, the Pennsylvania Avenue address and the H Street address, and replacing it with its new G Street address.

II. Administrative Requirements

A. Notice and Comment Requirements Under 5 U.S.C. 553

The ASC, under 12 U.S.C. 553, is required, among other things, to publish in the Federal Register for public notice and comment a general notice of proposed rulemaking, unless, in accordance with paragraph (b)(3)(B), the agency finds “for good cause . . . that notice and public procedure thereon are impracticable, unnecessary, or contrary to the public interest.” The ASC finds that notice and procedure are unnecessary in connection with these rule amendments because they are nonsubstantive and essentially are nomenclature changes, as that term is defined in the Federal Register Document Drafting Handbook, page 2-33, Revision 7 (May 15, 2018).

List of Subjects in 12 CFR Part 1102

Administrative practice and procedure, Appraisers, Banks, Banking, Freedom of information, Mortgages, Reporting and recordkeeping requirements.

Text of the Rule

For the reasons set forth in the preamble, title 12, chapter XI of the Code of Federal Regulations is amended as follows:

PART 1102—APPRAISER REGULATION

1. The authority citation for part 1102 continues to read as follows:

Authority: 12 U.S.C. 3348(a), 3332, 3335, 3338 (a)(4)(B), 3348(c), 5 U.S.C. 552a, 553(e); Executive Order 12600, 52 FR 23781 (3 CFR, 1987 Comp., p. 235).

2. In part 1102:

a. Remove the words “2100 Pennsylvania Avenue NW, Suite 200, Washington, DC 20037” wherever they appear and add in their place the words, “1325 G Street NW, Suite 500, Washington, DC 20005”;

b. Remove the words “2000 K Street NW, Suite 310, Washington, DC 20006” wherever they appear and add in their place the words, “1325 G Street NW, Suite 500, Washington, DC 20005”;

c. Remove the words “2000 K Street NW, Suite 310, Washington, DC” wherever they appear and add in their place the words, “1325 G Street NW, Suite 500, Washington DC 20005”; and

d. Remove the words “1401 H Street NW, Suite 760, Washington, DC 20005” wherever they appear and add in their place the words, “1325 G Street NW, Suite 500, Washington, DC 20005”.

By the Appraisal Subcommittee.
Dated: August 21, 2018.
James R. Park,
Executive Director.

[FR Doc. 2018-18566 Filed 8-27-18; 8:45 am]

BILLING CODE 6700-01-P